DEPARTMENT OF VETERANS AFFAIRS

[OMB Control No. 2900-0017]

Proposed Information Collection (Annual-Final Report and Account) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to ensure fiduciaries are properly administering VA beneficiaries' compensation and pension payments.

DATES: Written comments and recommendations on the proposed collection of information should be received on or before August 31, 2012.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0017” in any correspondence. During the comment period, comments may be viewed online through FDMS.

FOR FURTHER INFORMATION CONTACT: Nancy J. Kessinger at (202) 461-9769 or FAX (202) 275-5947.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Annual-Final Report and Account, VA Form 21-4706.

b. Federal Fiduciary's Account, VA Form 21-4706b.

c. Court Appointed Fiduciary's Account, VA Form 21-4706c.

d. Account Book, VA Form 21-4718.

e. Certificate of Balance on Deposit and Authorization to Disclose Financial Records (Pursuant to Title 38, U.S.C., Chapter 55 and Title 12, U.S.C., Chapter 35), VA Form 21-4718a.

OMB Control Number: 2900-0017.

Type of Review: Extension of a currently approved collection.

Abstract: VA maintain supervision of the distribution and use of VA benefits paid to fiduciaries on behalf of VA claimants who are incompetent, a minor, or under legal disability. The forms are used to verify beneficiaries' deposit remaining at a financial institution against a fiduciary's accounting. The following forms will be used to ensure claimants' benefits payments are administered properly.

a. VA Forms 21-4706, 4706b and 4706c are used by estate to determine proper usage of benefits paid to fiduciaries. The 21-4706 and 21-4706b are both necessary to conform to requirement of various state courts.

b. VA Form 21-4718 is provided to VA fiduciaries to submit accountings to either State courts or the VA. It is not a reporting form per se, but a vehicle to assist the fiduciary in accurately maintaining records of monies received and spent.

c. VA Form 21-4718a—Fiduciaries are required to obtain certifications that the balances remaining on deposit in financial institutions as shown on accountings are correct. Certifying official at a financial institution completing the form must affix the institution's official seal or stamp. The data collected is used to appoint an appropriate fiduciary for a VA beneficiary and to prevent fiduciaries from supplying false certification, embezzling funds, and possibly prevent and/or identify fraud, waste and abuse of government funds paid to fiduciaries on behalf of VA beneficiaries.

Affected Public: Individuals or households.

Estimated Annual Burden:

a. Annual-Final Report and Account, VA Form 21-4706—1,100.

b. Federal Fiduciary's Account, VA Form 21-4706b—6,300.

c. Court Appointed Fiduciary's Account, VA Form 21-4706c—2,000.

d. Account Book, VA Form 21-4718—20,000.

e. Certificate of Balance on Deposit and Authorization to Disclose Financial Records, VA Form 21-4718a—166.

Estimated Average Burden per Respondent:

a. Annual-Final Report and Account, VA Form 21-4706—30 minutes.

b. Federal Fiduciary's Accounts, VA Form 21-4706b—27 minutes.

c. Court Appointed Fiduciary's Account, VA Form 21-4706c—30 minutes.

d. Account Book, VA Form 21-4718—2½ hours.

e. Certificate of Balance on Deposit and Authorization to Disclose Financial Records, VA Form 21-4718a—3 minutes.

Frequency of Response: Annually.

Estimated Number of Respondents:

a. Annual-Final Report and Account, VA Form 21-4706—2,200.

b. Federal Fiduciary's Accounts, VA Form 21-4706b—14,000.

c. Court Appointed Fiduciary's Account, VA Form 21-4706c—4,000.

d. Account Book, VA Form 21-4718—8,000.

e. Certificate of Balance on Deposit and Authorization to Disclose Financial Records, VA Form 21-4718a—3,312.

Dated: June 27, 2012.
By direction of the Secretary.
Denise McLamb,
Program Analyst, Enterprise Records Service.

[FR Doc. 2012-16101 Filed 6-29-12; 8:45 am]

BILLING CODE 8320-01-P